DEPARTMENT OF LABOR

Occupational Safety and Health Administration

Maritime Advisory Committee for Occupational Safety and Health; Notice of Meeting Postponement

AGENCY: Occupational Safety and Health Administration (OSHA), Labor.

ACTION: Meeting postponement for the Maritime Advisory Committee for Occupational Safety and Health (MACOSH) and its workgroups.

SUMMARY: OSHA is postponing the MACOSH meeting and the workgroup meetings originally scheduled for March 18-20, 2008, at the Wyndham Greenspoint Hotel, 12400 Greenspoint Drive, Houston, TX 77060. OSHA is planning to hold another MACOSH meeting in the coming months and will publish a notice of the rescheduled meeting in the Federal Register when arrangements for that meeting are completed.

FOR FURTHER INFORMATION CONTACT: For general information about the postponement of the MACOSH meeting, contact: Dorothy Dougherty, Director, Directorate of Standards and Guidance, OSHA, U.S. Department of Labor, Room N-3609, 200 Constitution Avenue, NW., Washington, DC 20210; Phone: (202) 693-2086; Fax: (202) 693-1663.

Authority: Edwin G. Foulke, Jr., Assistant Secretary of Labor for Occupational Safety and Health, directed the preparation of this notice under the authority granted by Sections 6(b)(1) and 7(b) of the Occupational Safety and Health Act of 1970 (29 U.S.C. 655, 656), the Federal Advisory Committee Act (5 U.S.C. App. 2), Secretary of Labor's Order 5-2007 (72 FR 31159), and 29 CFR part 1912.

Signed at Washington, DC on March 6, 2008.
Edwin G. Foulke, Jr.,
Assistant Secretary of Labor for Occupational Safety and Health.

[FR Doc. E8-4881 Filed 3-11-08; 8:45 am]

BILLING CODE 4510-26-P